DEPARTMENT OF THE TREASURY

Office of Thrift Supervision

Ameribank, Northfork, WV; Notice of Appointment of Receiver

Notice is hereby given that, pursuant to the authority contained in section 5(d)(2) of the Home Owners' Loan Act, the Office of Thrift Supervision has duly appointed the Federal Deposit Insurance Corporation as sole Receiver for Ameribank, Northfork, West Virginia (OTS No. 14177).

Dated: September 23, 2008.
By the Office of Thrift Supervision.
Sandra E. Evans,
Federal Register Liaison.

[FR Doc. E8-22744 Filed 9-29-08; 8:45 am]

BILLING CODE 6720-01-M